DEPARTMENT OF ENERGY

Federal Energy Regulatory Commission

[Docket No. EL01-45-003, et al.]

Consolidated Edison Company of New York, Inc., et al.; Electric Rate and Corporate Regulation Filings

August 8, 2001.

Take notice that the following filings have been made with the Commission:

1. Consolidated Edison Company of New York, Inc.

[Docket Nos. EL01-45-003 ER01-1385-004]

Take notice that on July 30, 2001, pursuant to the Commission's order of July 20, 2001 in these proceedings, Consolidated Edison Company of New York, Inc. submitted revised tariff sheets which reflect the effective dates of its revised localized market-power mitigation measures.

Comment date: August 20, 2001, in accordance with Standard Paragraph E at the end of this notice.

2. American Transmission Systems, Inc.

[Docket No. ER01-2768-000]

Take notice that on August 1, 2001, American Transmission Systems, Inc. filed a Service Agreement to provide Non-Firm Point-to-Point Transmission Service for Exelon Generation Company, LLC, the Transmission Customer. Services are being provided under the American Transmission Systems, Inc. Open Access Transmission Tariff submitted for filing by the Federal Energy Regulatory Commission in Docket No. ER99-2647-000. The proposed effective date under the Service Agreement is July 31, 2001 for the above mentioned Service Agreement in this filing.

Comment date: August 21, 2001, in accordance with Standard Paragraph E at the end of this notice.

3. American Transmission Systems, Inc.

[Docket No. ER01-2769-000]

Take notice that on August 1, 2001, American Transmission Systems, Inc. filed a Service Agreement to provide Firm Point-to-Point Transmission Service for Exelon Generation Company, LLC, the Transmission Customer. Services are being provided under the American Transmission Systems, Inc. Open Access Transmission Tariff submitted for filing by the Federal Energy Regulatory Commission in Docket No. ER99-2647-000. The proposed effective date under the Service Agreement is July 31, 2001 for the above mentioned Service Agreement in this filing.

Comment date: August 21, 2001, in accordance with Standard Paragraph E at the end of this notice.

4. Northern Maine Independent System Operator

[Docket No. ER01-2770-000]

Take notice that on August 1, 2001, the Northern Maine Independent System Administrator (NMISA) tendered for filing with the Federal Energy Regulatory Commission (FERC) Service Agreement No. 8 between NMISA and Constellation Power Source, Inc., under its FERC Electric Tariff Original Volume No. 1. NMISA requests waiver of the Commission's notice requirements for an effective date of July 6, 2001.

Comment date: August 21, 2001, in accordance with Standard Paragraph E at the end of this notice.

5. Northen Maine Independent System Operator

[Docket No. ER01-2771-000]

Take notice that on August 1, 2001, the Northern Maine Independent System Administrator (NMISA) tendered for filing with the Federal Energy Regulatory Commission (FERC) Service Agreement No. 9 between NMISA and Constellation Power Source, Inc., under its FERC Electric Tariff Original Volume No. 1. NMISA requests waiver of the Commission's notice requirements for an effective date of July 7, 2001.

Comment date: August 21, 2001, in accordance with Standard Paragraph E at the end of this notice.

6. Portland General Electric Company

[Docket No. ER01-2772-000]

Take notice that on August 1, 2001, Portland General Electric Company (PGE) tendered for filing under PGE's FERC Electric Tariff Original Volume No. 12, executed Service Agreements for Sale, Assignment, or Transfer of Transmission Rights with Eugene Water and Electric Board, Dynegy Power Marketing Inc., and Powerex Corp.

Pursuant to 18 CFR Section 35.11, and the Commission's Order in Docket No. PL93-2-002 issued July 30, 1993, PGE respectfully requests that the Commission grant a waiver of the notice requirements of 18 CFR Section 35.3 to allow the Service Agreements to become effective July 2, 2001, July 9, 2001 and July 17, 2001.

A copy of this filing was caused to be served on Eugene Water and Electric Board, Dynegy Power Marketing Inc., Powerex Corp., and Public Utility Commission of Oregon, as noted in the filing letter.

Comment date: August 21, 2001, in accordance with Standard Paragraph E at the end of this notice.

7. Naniwa Energy LLC

[Docket No. ER01-2773-000]

Take notice that on August 1, 2001, Naniwa Energy LLC tendered for filing a Power Purchase and Sale Agreement with Morgan Stanley Capital Group Inc.

Comment date: August 21, 2001, in accordance with Standard Paragraph E at the end of this notice.

8. Naniwa Energy LLC

[Docket No. ER01-2774-000]

Take notice that on August 1, 2001, Naniwa Energy LLC tendered for filing a Power Purchase and Sale Agreement with KPIC North America Corporation.

Comment date: August 21, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20454 Filed 8-14-01; 8:45 am]

BILLING CODE 6717-01-P